DEPARTMENT OF THE INTERIOR

Fish and Wildlife Service

Notice of Availability of the Draft Comprehensive Conservation Plan and Environmental Assessment for the Long Island National Wildlife Refuge Complex

AGENCY: Fish and Wildlife Service, Department of the Interior.

ACTION: Notice of availability.

SUMMARY: The U.S. Fish and Wildlife Service (Service) announces the availability of the Long Island National Wildlife Refuge (NWR) Complex Draft Comprehensive Conservation Plan (CCP) and Environmental Assessment (EA). It describes how we intend to manage the Long Island NWR Complex during the next 15 years. We prepared this Draft CCP/EA in conformance with the National Environmental Policy Act (NEPA) and the National Wildlife Refuge System Administration Act, as amended.

DATES: Submit comments on or before July 19, 2006 to the Northeast Regional Office (see ADDRESSES). Dates for the public meetings are:

Monday, June 26, 2006, at Dowling College (Brookhaven Campus—Room A209), 1300 William Floyd Parkway, Shirley, New York.

Tuesday, June 27, 2006, at Doubleday Babcock Senior Center, 45 E. Main Street, Oyster Bay, New York.

Wednesday, June 28, 2006, at Morton NWR, 784 Noyak Road, Sag Harbor, New York.

All meetings will be held from 7 p.m. to 9 p.m., with Open House sessions from 6 p.m. to 7 p.m. We will accept oral and written comments at these meetings.

ADDRESSES: Submit comments or request copies of this Draft CCP/EA by mail to Thomas Bonetti, U.S. Fish and Wildlife Service, Northeast Regional Office, 300 Westgate Center Drive, Hadley, Massachusetts 01035-9589, or by electronic mail to northeastplanning@fws.gov. You may also download the document at http://library.fws.gov/ccps.htm, or http://www.fws.gov/northeast/longislandrefuges/.

FOR FURTHER INFORMATION CONTACT: Thomas Bonetti, 413-253-8307.

SUPPLEMENTARY INFORMATION: The Long Island NWR Complex includes Amagansett, Conscience Point, Elizabeth A. Morton, Oyster Bay, Seatuck, Target Rock, and Wertheim NWRs, along with the Lido Beach Wildlife Management Area and the Sayville Unit. The Long Island NWR Complex spans over 6,200 acres in Suffolk and Nassau Counties of New York State. Management focuses on migratory birds, threatened and endangered species, and their habitats.

This Draft CCP/EA describes the desired future conditions for the refuges, and identifies goals, long-range objectives, and strategies for achieving the purposes for which these refuges were established. The document poses three management alternatives:

Alternative A is our “No Action” alternative required by NEPA.

Alternative B, the “Proposed Action” alternative, will increase the protection and management of migratory wildlife, endangered and threatened species, and other species of concern. This alternative will also increase the number and quality of wildlife-dependent recreational opportunities, and allow us to utilize the Long Island NWR Complex's proximity to New York City and urban communities to better promote National Wildlife Refuge System principles and improve public support for national wildlife refuges.

Alternative C proposes less emphasis on public use to further protect threatened and endangered species, control invasive species, and enforce regulations. This alternative will focus on maintaining public use infrastructure such as nature trails and information kiosks, while de-emphasizing interactive programs.

With the publication of this notice, the public is encouraged to send written comments regarding this Draft CCP/EA. The public will also have opportunities to provide comments at public meetings or open house meetings. Places, dates and times of the meetings will also be advertised locally and at our Web site, http://www.fws.gov/northeast/longislandrefuges/. After the 30-day review and comment period ends on July 19, 2006, we will analyze, address, and consider all comments in revised planning documents.

All comments, including names and addresses, become part of the official public record. Requests for the public record of this plan will be handled in accordance with the Freedom of Information Act, the Council on Environmental Quality's NEPA regulations, and other Service and Departmental policies and procedures.

Dated: June 8, 2006.
Marvin E. Moriarty,
Regional Director, U.S. Fish and Wildlife Service, Hadley, MA 01035-9589.

[FR Doc. E6-9338 Filed 6-16-06; 8:45 am]

BILLING CODE 4310-55-P